ENVIRONMENTAL PROTECTION AGENCY

[FRL-8736-8]

Notice of Proposed Administrative Settlement Pursuant to the Comprehensive Environmental Response, Compensation, and Liability Act, as Amended; AuClair Superfund Site

AGENCY: Environmental Protection Agency (EPA).

ACTION: Notice, request for public comments.

SUMMARY: In accordance with Section 122(i) of the Comprehensive Environmental Response, Compensation, and Liability Act (“CERCLA”), as amended, 42 U.S.C. 9622(i), notice is hereby given of a proposed Administrative Agreement for Recovery of Past Response Costs (“Agreement,” Region 9 Docket No. 9-2008-16) pursuant to Section 122(h) of CERCLA concerning the AuClair Superfund SITE (the “Site”), located on the Torres Martinez Desert Cahuilla Indian Reservation, Riverside County, California. The settling party is Mr. George Stanley Auclair Jr. (“settling party”). In the Agreement, the “Settling Party” will fully reimburse the United States up to $627,022.00 for response costs incurred at the Site. The Agreement provides the “Settling Party” with a covenant not to sue for these response costs, and contribution protection. For thirty (30) days following the date of publication of this Notice, the Agency will receive written comments relating to the proposed Agreement. The Agency's response to any comments received will be available for public inspection at EPA's Region IX offices, located at 75 Hawthorne Street, San Francisco, California 94105.

DATES: Comments must be submitted on or before December 3, 2008.

ADDRESSES: The proposed Agreement may be obtained from Letitia Moore in the Office of Regional Counsel, telephone (415) 972-3928. Comments regarding the proposed Agreement should be addressed to Letitia Moore at the U.S. Environmental Protection Agency (ORC-3), 75 Hawthorne Street, San Francisco, California 94105, and should reference the AuClair Superfund Site, and Region IX Docket No. 9-2008-0026.

FOR FURTHER INFORMATION CONTACT: Letitia Moore, Office of Regional Counsel, (415) 972-3928, U.S. Environmental Protection Agency, Region 9, 75 Hawthorne Street, San Francisco, CA 94105.

Dated: October 16, 2008.
Keith A. Takata,
Director, Superfund Division, Region 9.

[FR Doc. E8-26091 Filed 10-31-08; 8:45 am]

BILLING CODE 6560-50-M